DEPARTMENT OF TRANSPORTATION

Coast Guard

33 CFR Parts 110, 117, 165

[CGD09-01-004]

RIN 2115-AA97

Sail Detroit and Tall Ship Celebration, 2001, Detroit and Saginaw Rivers, MI

AGENCY: Coast Guard, DOT.

ACTION: Notice of proposed rulemaking.

SUMMARY: The Coast Guard proposes to establish temporary safety zones and anchorage areas during the Sail Detroit tall ship visit and harbor celebration in the Detroit River, Detroit, Michigan, to be held July 18-24, 2001. The Coast Guard also proposes to establish temporary safety zones and drawbridge operating regulations during the Tall Ship Celebration: 2001 to be held July 26-30, 2001 in the Saginaw River, Bay City, Michigan. These regulations are necessary to promote the safe navigation of vessels and the safety of life and property during the periods of heavy vessel traffic expected during these events.

DATES: Comments and related material must reach the Coast Guard on or before June 8, 2001.

ADDRESSES: You may mail or hand-deliver comments and related material to: Commanding Officer, U.S. Coast Guard Marine Safety Office Detroit, 110 Mt. Elliott Ave., Detroit, MI 48207-4380. Marine Safety Office Detroit maintains the public docket for this rulemaking. Comments and material received from the public, as well as documents indicated in this preamble as being available in the docket, will become part of this docket and will be available for inspection and copying at Coast Guard Marine Safety Office Detroit between the hours of 8 a.m. and 4 p.m., Monday through Friday, except Federal holidays.

FOR FURTHER INFORMATION CONTACT: Lieutenant Dennis O'Mara, Marine Safety Office Detroit at (313) 568-9580.

SUPPLEMENTARY INFORMATION:

Request for Comments

The Coast Guard encourages interested persons to participate in this rulemaking by submitting comments and related material. Each person submitting comments should include their name and address, identify the docket number for this rulemaking, [CGD09-01-004], indicate the specific section of this document to which each comment applies, and give the reason for each comment. Comments and attachments should be submitted on 8½″ x 11″ unbound paper in a format suitable for copying. Persons requesting acknowledgement of receipt of comments should include a stamped, self-addressed postcard or envelope. All comments and material received during the comment period will be considered by the Coast Guard and may change this proposal.

Public Hearing

The Coast Guard does not plan to hold a public hearing. Persons may request a meeting by writing to Commander, Ninth Coast Guard District (m), via Marine Safety Office Detroit, at the address listed under ADDRESSES. The request should include reasons why a public hearing would be beneficial. If the Coast Guard determines that oral presentations will aid in this rulemaking, it will hold a public hearing at a time and place to be announced by a later notice in the Federal Register.

Background and Purpose

The proposed temporary regulations are for the Sail Detroit tall ship visit and harbor celebration and Tall Ship Celebration: 2001 to be held in the Detroit and Saginaw Rivers, respectively.

The Sail Detroit tall ship visit is scheduled to be part of Detroit 300, the celebration to honor the 300th birthday of Detroit's founding. It is a shared international event between the sister cities of Detroit, MI and Windsor, ONT. Temporary safety zones will be established along both waterfront areas where tall ships will moor. Sail Detroit will be highlighted by a 5-mile historic vessel parade (approximately 50 vessels, including 20 or more tall ships), waterside events, in-port tours, waterside moored vessel viewing, and a re-enactment of Cadillac's landing in Detroit. The parade of historic ships will take place in the Detroit River on Sunday, July 22, 2001 between the Ojibway Anchorage and Belle Isle. The re-enactment of Antoine de la Mothe Cadillac's 1701 landing in Detroit will take place on Tuesday, July 24, 2001, between Belle Isle and Hart Plaza. The Coast Guard will establish temporary safety zones to ensure the safety of both events.

Tall Ship Celebration: 2001 is a community-wide maritime festival in Bay City, MI, featuring a 6-mile ship parade, fireworks, in-port tours and waterside moored vessel viewing between July 26 and July 30, 2001. A parade of ships begins the Bay City celebration on Thursday, July 26, forming in Saginaw Bay and traversing the Saginaw River to the Veterans Memorial Bridge.

Vessels in Bay City will moor at docks along Veterans Memorial Park and Wenonah Park near the Veterans Memorial Bridge. There will be a temporary moving safety zone around the parade vessels during the parade to ensure the safety of passengers, crew and visitors. Temporary drawbridge operating regulations will be in effect during the parade to ensure an open route across the Saginaw River for emergency vehicles. A second temporary safety zone between the Liberty Street Bridge and the Veterans Memorial Bridge will be established where the sail vessels are moored. Fireworks are scheduled to take place in Veterans Park on Saturday, July 28, 2001 at 10 p.m. The existing temporary safety zone in place for the moored vessels will be sufficient to protect waterside viewers during the event.

These temporary regulations are prompted by the high degree of control necessary to ensure the safety of participating and spectator vessels for the events occurring in the Detroit River, Saginaw Bay, and the Saginaw River during this time. These proposed regulations create vessel movement controls, temporary anchorage regulations, temporary drawbridge operating regulations, and safety zones that will be in effect at specified marine locations during specified times. The temporary regulations are specifically designed to minimize adverse impacts on commercial users of the affected waterways.

Vessel congestion due to the large number of participating and spectator vessels poses a significant threat to the safety of life. This proposed rulemaking is necessary to ensure the safety of life on the navigable waters of the United States.

Discussion of Proposed Rule

The events and regulations planned for the Detroit River for the period July, 18-24, 2001 are as follows:

(1) Safety Zone, Arrival and Mooring of Tall Ships, July 18-22, 2001. Tall ships are expected to begin arriving in Detroit and Windsor as early as Wednesday, July 18, 2001. They will arrive individually, on no established schedule, and will moor at Hart Plaza and the River Promenade in Detroit and at Dieppe Park in Windsor, Ontario, Canada. At 12 noon on Wednesday, July 18, 2001, the U.S. Coast Guard will establish a temporary 100-yard safety zone in the Detroit River from Hart Plaza to the Joe Louis Arena. The safety zone will enclose the area bounded by a line drawn from point 42°19′36.5″ N, 083°02′31″ W on the U.S. shoreline at the easternmost tip of Hart Plaza, extending southward 100 yards into the Detroit River to point 42°19′34″ N, 083°01′31″ W, then westward parallel to the U.S. shoreline to point 42°19′24″ N, 083°03′05″ W, then northward to the U.S. shoreline at the westernmost tip of the Riverfront Promenade near the Joe Louis Arena at point 42°19′26″ N, 083°03′06.5″ W, then back eastward along the U.S. shoreline to point 42°19′36.5″ N, 083°02′31″ W. The safety zone will terminate at 9:30 a.m. on Sunday, July 22, 2001. Canadian authorities will establish similar regulations, with a 100-yard safety zone extending from the Canadian shoreline into the Detroit River at Dieppe Park. The Canadian safety zone will remain in effect while visiting tall ships are moored in Windsor. The Canadian authority is the Windsor Port Authority, 251 Goyeau St., Suite 502, Windsor, Ontario N9A 6V2, Harbour Master: William Marshall, (519) 258-5741. These safety zones are necessary to ensure the safety of the tall ships, their crews, and shoreside visitors who may be boarding these vessels while they are moored.

(2) Anchorage and Safety Zone, Sail Detroit Ford Parade of Ships, July 22, 2001. The U.S. Coast Guard and the Windsor Port Authority will implement complementary safety zones in the Detroit River, restricting vessel movements between the Ojibway Anchorage and the easternmost tip of Belle Isle on the U.S. side, including the cut channel below Peche Island on the Canadian side. The safety zones will be in place between the hours of 12:30 p.m. and 5:30 p.m. for the Sail Detroit Ford Parade of Ships. The existing Belle Isle and Ojibway Anchorages will be closed to commercial vessels before and for the duration of the parade to enable emergency anchoring for participating vessels during the parade and a suitable staging area for the marine parade. Spectator craft will be directed to anchor in three temporary spectator anchorage areas that will be established along the U.S. side of the Detroit River from 7:30 a.m. until 5:30 p.m. The Coast Guard will place temporary buoys in the river to mark the four corners of each temporary spectator anchorage area. U.S. Coast Guard, assisting-agency patrol vessels and event-sponsored patrol craft will be on-scene in both areas to direct vessel operators to anchor.

Spectator Anchorage Area A covers all waters of the Detroit River between Chene Park and the Ford Auditorium, out to 200 yards from the U.S. shoreline. Spectator Anchorage Area A shall be in effect between 7:30 a.m. and 5:30 p.m. on Sunday, July 22, 2001. Spectator Anchorage Area B covers waters of the Detroit River from the Riverfront Marina to the Ambassador Bridge, out to 200 yards from the U.S. shoreline. Spectator Anchorage Area B shall be in effect between 7:30 a.m. and 5:30 p.m. on Sunday, July 22, 2001. Spectator Anchorage Area C covers all waters of the Detroit River from Riverside Park to Fort Wayne, out to 200 yards from the U.S. shoreline. Spectator Anchorage Area C shall be in effect between 7:30 a.m. and 5:30 p.m. on Sunday, July 22, 2001. These spectator anchorage areas are needed to accommodate the needs of recreational vessels and, at the same time, to ensure the safety of parade participants, spectator craft, commercial vessels, and the marine environment in the Detroit River.

Mariners are cautioned that the areas to be established as temporary anchorage grounds have not been subject to any special survey or inspection and that charts may not show all riverbed obstructions or the shallowest depths. In addition, the temporary spectator anchorages are in areas of substantial currents, and not all of the waters in the anchorages are over good holding ground. Mariners are advised to take appropriate precautions when using these temporary spectator anchorages. These are not special anchorage areas. Vessels must display anchor lights or shapes, as required by the navigation rules.

Temporary Spectator Anchorage Areas A, B, and C will include regulations restricting spectator craft to proceed at speeds which will create minimal wake, and not to exceed five (5) miles per hour.

Vessel operators intending to use one of the spectator anchorage areas during the Sail Detroit Ford Parade of Ships are advised to anticipate fully their length of stay in these areas and acquaint themselves with the operational restrictions that will be in effect concerning their use. Operators may not leave unattended vessels in an anchorage at any time and may not nest or tie off to other vessels, buoys, or to the adjacent shoreline. Spectator anchorage areas will be available on a first come first served basis.

Due to the number of spectator craft expected, vessel operators should remember it will be virtually impossible to move either safely or legally to new positions, as maneuvering between anchored vessels will be prohibited. Accordingly, vessels should have sufficient facilities on board to retain all garbage and untreated sewage. Discharge of either in any waters of the United States is forbidden. Violators may be assessed a civil penalty of up to $25,000.

Vessel operators are reminded, too, that in addition to the safety equipment requirements for pleasure craft, vessels carrying passengers must comply with certain additional rules and regulations. When a vessel is not being used exclusively for pleasure purposes but rather is carrying passengers, the vessel operator must possess a Coast Guard issued license and, in most cases, must also display a Certificate of Inspection issued by the U.S. Coast Guard.

While the legal definition of “passenger” found in 46 U.S.C. 2101(21) varies depending on the type of vessel involved, it means, generally, any person who has contributed any consideration (monetary or otherwise) either directly or indirectly for carriage on board the vessel. The same laws provide for substantial penalties for any violation. On-scene Coast Guard patrol personnel will enforce the provisions of the temporary anchorage regulations and will aggressively board vessels that appear to be overloaded or carrying passengers illegally. Violators will be prosecuted.

Upon the completion of the parade, all spectator craft shall depart their respective anchorage under the direction of on-scene Coast Guard vessels. To ease vessel traffic flow after the parade, vessels anchored in Temporary Anchorage Area A are expected to depart generally in an upbound direction, and may be delayed, leaving sometime after parade participants have had suitable time to clear the area. Vessels anchored in Temporary Spectator Anchorage Areas B and C are expected to depart generally in a downbound direction, with the ability to leave sooner than those proceeding upriver.

Additionally, there will be a temporary safety zone in all U.S. waters of the Detroit River between Nicholson Terminal, River Rouge, MI, and the eastern tip of Belle Isle between 12:30 p.m. and 5:30 p.m. on Sunday, July 22, 2001. The temporary safety zone will include all U.S. waters of the Detroit River bounded by a line drawn from a point on the United States shoreline near the Nicholson Marine Terminal in River Rouge, MI, at position 42°15′21″ N, 083°07′14″ W, to a point on the international boundary line at position 42°15′14″ N, 083°07′00″ W; thence northeasterly, along the international boundary line to a point due south of Coast Guard Station Belle Isle, at position 42°20′22″ N, 082°57′35″ W; thence, due north to Coast Guard Station Belle Isle. The safety zone includes all waters of the Detroit River, downbound from the Coast Guard Station Belle Isle, around the western tip of the island, along the MacArthur Bridge, and then along the length of the entire Detroit waterfront to Nicholson Terminal, River Rouge, MI, out to the U.S. Canadian border, not to include waters of Temporary Spectator Anchorage Areas A, B or C, as defined by § 110.T09-007. Similar restrictions will be in place in Canadian waters, including temporary closure of the cut channel below Peche Island as an anchorage area for parade vessels returning to Lake Erie. The U.S. Captain of the Port and Windsor Port Authority will work in concert to ensure the safety of U.S. and Canadian waterway users.

During the event, a no-wake zone will be maintained along the Canadian shoreline to allow for the through passage of recreational vessels bound for Lake Erie and Lake St. Clair for those vessel operators choosing not to anchor for the ship parade. No vessel shall enter the safety zone without the permission of the on-scene Coast Guard patrol craft. Movement within the safety zone will be controlled by on-scene patrol vessels.

Upbound commercial vessels will be allowed to transit the Detroit River with parade participants. They will not be permitted to overtake vessels participating in the parade until once outside the safety zone. The Canadian Marine Communications and Traffic Service (MCTS) Centre in Sarnia, Ontario, Canada, will coordinate and communicate with up and downbound commercial vessels, the Coast Guard Patrol Commander, and the sponsor's parade marshal. The Coast Guard Patrol Commander and the sponsor's parade marshal will assist in coordinating commercial vessel movements with MCTS Sarnia, communicating via marine band radio. Downbound deep draft commercial vessels will be requested to slow their speed of advance while in Lake Huron, so as to allow event participants time to complete the parade route safely, to avoid meeting situations in congested waters during the ship parade.

Commercial vessels will not be allowed to anchor in the Belle Isle or Ojibway anchorages before or during the parade, except by permission of the Captain of the Port Detroit, or the Windsor Harbour Master, respectively. The Windsor Port Authority will implement a special anchorage area at the eastern end of Peche Island, in the cut channel below the island, to enable vessels participating in the parade to wait for the conclusion of the parade to return to down river locations.

These anchorage areas, safety zones, and vessel controls are necessary to ensure the safety of parade participants, waterside and shoreside spectators, commercial vessels and crews, and the marine environment during this period of high vessel traffic in the Detroit River. A Coast Guard safe boating guide is being prepared as a handout for marine spectators to clarify restrictions in place during the ship parade.

(3) Safety Zone, Re-enactment of Cadillac's Landing, July 24, 2001. Cadillac's landing in Detroit will be re-enacted in the Detroit River between the Detroit Yacht Club and Hart Plaza. No Canadian waterway restrictions will be in place for this event. Between six and ten replica canoes, each with approximately 30 people on board, will paddle down the Detroit River, departing the Detroit Yacht Club at approximately 1 p.m. and arriving at Hart Plaza at approximately 2:30 p.m. The canoes will moor to a barge anchored in the Detroit River in the vicinity of Hart Plaza. The landing will be followed by a ceremony commemorating the historic landing. After the ceremony, the canoes will paddle from Hart Plaza to Riverside Park, below the Ambassador Bridge, where they will exit the river. Because of the consistent wave action in the Detroit River from wind, wakes and current, a temporary 100-yard moving safety zone will be established around the canoes while they are operating in the Detroit River. There will also be a temporary safety zone 100 yards in all directions around the barge anchored near Hart Plaza that will serve as their landing site. The safety zones will be in effect between 1 p.m. and 7 p.m. on Tuesday, July 24, 2001. These safety zones are necessary to ensure the safety of the re-enactors, their vessels, and ceremony participants.

Upon completion of the harbor festivities in Detroit, many participating tall ships will head north to Bay City. The events and regulations planned for the Saginaw River and Saginaw Bay for the period July 26-30, 2001 are as follows:

(4) Safety Zone, Parade of Ships, July 26, 2001. Tall Ship Celebration: 2001 will hold its tall ship parade on Thursday, July 26, 2001. The parade is expected to begin at 1 p.m. in Bay City. To accommodate the start time, tall ships will begin mustering at approximately 12 noon in Saginaw Bay. A staging area will be established near the starting point, at “Light 12” (LLNR 10644), extending 100 yards in all directions from position 43°43′54″ N, 83°46′54″ W.

The parade route starts abeam of Saginaw Bay Channel “Light 12” proceeding up Saginaw Channel into the Saginaw River. It continues up the Saginaw River to a point near Veterans Memorial Park and Wenonah Park, where the parade will end and parade vessels will moor.

The parade will end near Veterans Memorial Park and Wenonah Park in Bay City, Michigan. Vessels will moor at locations along the two river banks of the Bay City waterfront in the vicinity of the Veterans Memorial Bridge.

The Coast Guard will establish a temporary moving safety zone around the participating vessels at the staging area and during the parade. The safety zone will start at 12 noon on Thursday, July 26, 2001 at the staging area, located at “Light 12” (LLNR 10644) and extending 100 yards in all directions from position 43°43′54″ N, 83°46′54″ W. Upon commencement of the parade at 1 p.m., the safety zone will include all waters of the Saginaw Bay Channel and Saginaw River, within the charted navigable channel, including the Essexville Turning Basin, 100 yards on all sides and one mile ahead of the lead parade vessel, up to the Veterans Memorial Bridge at mile 5.6 of the Saginaw River, and 100 yards around all other participating parade vessels. The safety zone will terminate at 7 p.m. on Thursday, July 26, 2001 at the Veterans Memorial Bridge. Only parade vessels and patrol craft will be permitted in the safety zone during the ship parade; any other vessel movement will be with the permission of the on-scene Coast Guard patrol vessels, as directed by the Coast Guard Patrol Commander.

Recreational vessels viewing the parade will be directed to anchor in the waters of the Saginaw River outside of the safety zone. Spectator craft in the Saginaw River are requested to remain anchored during the parade, and should be at anchor no later than 1 p.m. on Thursday, July 26, 2001. They will be asked to remain at anchor until the completion of the transit of the final parade vessel.

Mariners are cautioned that the areas designated for spectator craft anchoring have not been subject to any special survey or inspection and that charts may not show all riverbed obstructions or the shallowest depths. They are not special anchorage areas. Spectator vessels choosing waterside locations along the parade route must display anchor lights or shapes, as required by the navigation rules. Vessels anchoring in the Saginaw River, outside the channel, are requested to proceed at speeds that will create minimal wake and not to exceed five (5) miles per hour.

Vessel operators intending to anchor along the parade route during the Tall Ship Celebration: 2001 ship parade are advised to fully anticipate their length of stay and to the greatest extent practicable, to comply with the recommended operational guidelines. Operators should not leave unattended vessels in the river along the parade route at any time and should not nest or tie off to other vessels, buoys, or to the adjacent shoreline. Spectator anchorage locations will be available on a first come first served basis.

Due to the number of spectator craft expected, vessel operators should remember it will be virtually impossible to move safely to new positions, as maneuvering between anchored vessels is not advisable. Accordingly, vessels should have sufficient facilities on board to retain all garbage and untreated sewage. Discharge of either in any waters of the United States, which include all waters addressed in this rule, is strictly forbidden. Violators may be assessed a civil penalty of up to $25,000.

Vessels are reminded, too, that in addition to the safety equipment requirements for pleasure craft, vessels carrying passengers must comply with certain additional rules and regulations, as discussed in paragraph (2) above.

(5) Drawbridge Operation Regulations, Parade of Ships, July 26, 2001. To ensure the safety of the public during the parade, shoreside public safety vehicles must be fully capable of crossing the Saginaw River in the event of a shoreside emergency. To accommodate this public safety need, the Independence Bridge and the Liberty Street Bridge will open for vessel traffic on a rotating basis from 1 p.m. until 7 p.m. on Thursday, July 26, 2001 in Bay City, Michigan. The Independence Bridge will open for two to three parade vessels and will close behind them. The vessels will then proceed up the river to the Liberty Street Bridge, which will open to allow them to pass. After the vessels have safely passed, and the Liberty Street Bridge has closed, the Independence Street Bridge will open to allow two or three more parade vessels to pass. Once the Independence Bridge is closed, the Liberty Street Bridge will open, allowing those vessels to pass. Vessels will continue to transit through the Independence and Liberty Street Bridges in this manner until all parade vessels have safely passed.

(6) Safety Zone, Mooring of Tall Ships, July 26-30, 2001. At 1 p.m. on Thursday, July 26, 2001, a temporary safety zone will be established in all waters of the Saginaw River between the Liberty Street Bridge and the Veterans Memorial Bridge. This safety zone will be in effect until 10 p.m. Thursday, July 30, 2001. Vessels may be permitted to operate in this safety zone, but only under the direction of on-scene Coast Guard patrol personnel. Spectator vessels will be directed out of this area altogether during the fireworks event, scheduled to take place at 10 p.m. on Saturday, July 28, 2001.

These safety rules are necessary in order to provide adequate controls to ensure the safety of the tall ships, their crews, and shoreside visitors who may be boarding these vessels while they are moored.

If changes are made to these proposed rules, or if the Captain of the Port, Detroit determines that additional controls are necessary, a notice will be published in the Federal Register. Details of these events and of the special regulations in effect for each event will be published in the Local Notice to Mariners. Additionally, appropriate Safety Marine Information Broadcasts will be initiated for each event. For all events, vessel operators will be required to maneuver as directed by on-scene Coast Guard patrol personnel. Coast Guard patrol personnel enforcing regulations for safety zones, anchorages, and regulated areas for these events include commissioned, warrant, and petty officers of the Coast Guard on board Coast Guard, Coast Guard Auxiliary, and local law enforcement vessels. Violators of Coast Guard safety zone regulations may result in civil penalties of up to $25,000.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

Due to the short duration of these marine events and the advance notice provided to the marine community, we expect the economic impact of this proposed rule to be so minimal that a full Regulatory Evaluation under paragraph 10e of the regulatory policies and procedures of DOT is unnecessary. Two days, Sunday, July 22, 2001 and Thursday, July 26, 2001, will have the greatest potential impact on port users. On July 22, the Sail Detroit Ford Parade of Ships will take place in the Detroit River, and on July 26, the Tall Ship Celebration: 2001 parade of ships will take place in Saginaw Bay and the Saginaw River. On both of these days, the combination of parade vessels and large numbers of recreational vessels will cause potential disruptions to normal port activity. However, due to the temporary nature of these disruptions, they can be planned for in advance to minimize the economic hardship that might result. The largest segments of the port community facing disruptions are the operators of deep draft vessels and the terminals they call on. In addition to the extended advance notice of these events provided by the COTP, deep draft vessel traffic will be accommodated as best as possible on these two days. Moreover, provisions have been made by the Sail Detroit sponsor to allow vessels transiting upbound in the Detroit River on Sunday, July 22 to be included in the ship parade.

The Coast Guard expects that the publication and advertisement of these events and these proposed regulations will allow the industry sufficient time to adjust schedules and minimize adverse impacts. Compensating for any adverse impacts are the favorable economic impacts that these events will have on commercial activity in the area as a whole from the boaters and tourists these events are expected to attract.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

For the reasons stated in the Regulatory Evaluation section above, the Coast Guard certifies under 5 U.S.C. 605(b) that this proposed rule, if adopted, will not have a significant economic impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If this rule would affect your small business, organization, or governmental jurisdiction and you have questions concerning its provisions or options for compliance, please contact Marine Safety Office Detroit (see ADDRESSES).

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local or tribal government or the private sector to incur direct costs without the Federal Government having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

The Coast Guard considered the environmental impact of this proposed rule and concluded that, under figure 2-1, paragraphs 34 (f), (g), and (h) of Commandant Instruction M16475.1C, this proposed rule will have no significant environmental impact and is categorically excluded from further environmental documentation. A “Categorical Exclusion Determination” is available in the docket where indicated under ADDRESSES.

List of Subjects

33 CFR Part 110

Anchorage Grounds.

33 CFR Part 117

Bridges.

33 CFR Part 165

Harbors, Marine Safety, Navigation (water), Reporting and record keeping requirements, Security measures, Waterways.

For the reasons discussed in the preamble, the Coast Guard proposes to amend 33 CFR Parts 110, 117, and 165 as follows:

PART 110—ANCHORAGE REGULATIONS [AMENDED]

1. The authority citation for part 110 continues to read as follows:

Authority: 33 U.S.C. 471, 1221 through 1236, 2030, 2035, and 2071; 49 CFR 1.46 and 33 CFR 1.05-1(g).

2. Temporary § 110.T09-007 is added to read as follows:

§ 110.T09-007 Detroit River, Detroit, Michigan.

(a) Existing paragraph 110.206 is temporarily suspended from 7:30 a.m. to 5:30 p.m. on Sunday July 22, 2001. During the period of the suspension, the existing anchorage will be closed to commercial deep draft vessels, except as directed in an emergency during the Sail Detroit Ford Parade of Ships, as directed by COTP Detroit.

(b) For that same term, temporary spectator anchorage areas are established as follows:

(1) Temporary Spectator Anchorage Area A.

The area specifically bounded downriver by a line drawn from the United States shoreline at position 42°19′36″ N, 083°02′37″ W, to the Griswold Street Junction Buoy (LLNR 8200); and bounded on the south by a line drawn from the Griswold Street Junction Buoy to the Belle Isle Lower Lighted Junction Buoy (LLNR 8205); and bounded upriver by a line drawn from the Belle Isle Lower Lighted Junction Buoy to the United States shoreline at position 42°20′24″ N, 083°01′08″ W; and bounded on the north by the United States shoreline between positions 42°19′36″ N, 083°02′37″ W, and 42°20′24″ N, 083°01′08″ W is Temporary Spectator Anchorage Area A.

(2) Temporary Spectator Anchorage Area B

The area specifically bounded upriver by a line drawn from Riverfront Marina South Entrance Light “1” (LLNR 8175) to a point 200 yards from the United States shoreline at position 42°19′18″ N, 083°03′12″ W (point 1); and bounded downriver by the Ambassador Bridgefrom the United States shoreline at position 42°18′52″ N, 083°04′32″ W to a point 200 yards from the U.S. shoreline at position 42°18′46″ N, 083°04′29″ W (point 2); and bounded on the south by a line 200 yards offshore connecting points 1 and 2 parallel to the U.S. shoreline; and bounded on the north by the U.S. shoreline is Temporary Spectator Anchorage Area B.

(3) Temporary Spectator Anchorage Area C.

The area specifically bounded upriver by a line drawn from the United States shoreline at position, 42°18′46″ N, 083°04′42″ W to a point in the Detroit River 200 yards from the shoreline at position 42°18′42″ N, 083°04′38″ W (point 3); and bounded downriver by a line drawn between a point in the Detroit River at position 42°17′42.5″ N, 083°05′36.5″ W (point 4), and a point on the U.S. shoreline at position 42°17′46″ N, 083°05′43″ W; and bounded on the south by a line drawn 200 yards from the United States shoreline between points 3 and 4, and bounded on the west by the U.S. shoreline is Temporary Spectator Anchorage Area C.

(c) Local Regulations.

(1) During the effective period, all vessels operating within the Temporary Spectator Anchorage Areas A, B or C shall proceed directly to or from anchor at no wake speeds, not to exceed five (5) miles per hour, unless otherwise authorized by the COTP Detroit, or other on-scene Coast Guard patrol personnel.

(2) Vessel operators may not leave unattended vessels in the anchorage at any time.

(3) Vessel operators may not nest or tie off to other vessels or buoys, or to the adjacent shoreline.

(4) Vessel operators may not maneuver between anchored vessels.

(5) Vessel operators shall display the proper anchoring shapes or lights, as defined by navigation rules.

(6) Vessel operators shall depart the anchorage areas after termination of the effective period. Once directed to do so by on-scene patrol personnel, vessels shall depart as follows: Vessels anchored in Anchorage Areas A, B or C may depart in a downbound direction as soon as the last participating parade vessel passes by the anchorage. Upbound vessels will depart as directed by Coast Guard patrol personnel, based on congestion and existing vessel traffic conditions.

(7) Vessel operators shall comply with the instructions of the on-scene Coast Guard personnel. On-scene Coast Guard personnel include commissioned, warrant, and petty officers of the United States Coast Guard on board Coast Guard, Coast Guard Auxiliary, local, state, and federal law enforcement vessels.

(d) Mariners are cautioned that the areas designated as anchorage grounds in this section have not been subject to any special survey or inspection and that charts may not show all riverbed obstructions or the shallowest depths. In addition, the anchorages are in areas of substantial currents, and not all anchorages are over good holding ground. Mariners are advised to take appropriate precautions when using these temporary anchorages. These are not special anchorage areas. Vessels must display anchor lights or shapes, as required by the navigation rules. All anchorages in this paragraph are effective as specified. Vessel operators using the anchorages in this paragraph must comply with the general operational requirements specified in paragraph (c) of this section.

PART 117—DRAWBRIDGE OPERATION REGULATIONS

3. The Authority cite for Part 117 continues to read as follows:

Authority: 33 U.S.C. 499; 49 CFR 1.46; 33 CFR 1.05-1(g); Section 117.255 also issued under authority of Pub. L. 102-587, 106 Stat. 5039.

4. From 1 p.m., Thursday, July 26, 2001 until 7 p.m., Thursday, July 26, 2001, in § 117.647, suspend paragraph (b) and add paragraphs (f) and (g) to read as follows:

§ 117.647 Saginaw River.

* * * * *

(f) The draws of the Veterans Memorial bridge, mile 5.0, and Lafayette Street bridge, mile 6.2, in Bay City, shall open on signal from March 16 through December 15, except as follows:

(1) From 6:30 a.m. to 8:30 a.m. and 3:30 p.m. to 5:30 p.m. except Saturdays, Sundays, and holidays observed in the locality, the draws need not be opened for the passage of vessels of less than 50 gross tons.

(2) From 7:30 a.m. to 8:30 a.m. and 4:30 p.m. to 5:30 p.m. except on Sundays and Federal holidays, the draws need not be opened for the passage of downbound vessels of over 50 gross tons.

(3) From 8 a.m. to 8 p.m. on Saturdays, Sundays, and Federal holidays, the draws of the Lafayette Street bridge need not be opened for the passage of pleasure craft except for three minutes before to three minutes after the hour and half hour.

(4) From 8 a.m. to 8 p.m. on Saturdays, Sundays, and Federal holidays, the draws of the Veterans Memorial bridge need not be opened for the passage of pleasure craft, except from three minutes before to three minutes after the quarter hour and three quarter hour.

(5) From December 16 through March 15, the draws of these bridges shall open on signal if at least 12 hours notice is given.

(g) From 1 p.m., Thursday, July 26, 2001 to 7 p.m., Thursday, July 26, 2001, the draws of the Belinda Street (Independence) bridge, mile 3.3, and the Liberty Street bridge, mile 4.4, shall be closed to navigation, except that the draws shall open upon signal from vessels participating in the Tall Ship Celebration: 2001 Parade of Ships.

PART 165—REGULATED NAVIGATION AREAS AND LIMITED ACCESS AREAS [AMENDED]

5. The authority citation for part 165 continues to read as follows:

Authority: 33 U.S.C. 1231; 50 U.S.C. 191; 33 CFR 1.05-1(g), 6.04-1, 6.04-6, and 160.5; 49 CFR 1.46.

6. Add temporary § 165.T09-008 to read as follows:

§ 165.T09-008 Safety Zone: Hart Plaza to the Joe Louis Arena, Detroit River, Detroit, Michigan.

(a) Location. The following is a Safety Zone: All U.S. waters of the Detroit River extending 100 yards from the shoreline between the easternmost tip of Hart Plaza to the westernmost point of the River Promenade at Joe Louis Arena. The safety zone will enclose the area bounded by a line drawn from point 42°19′36.5″ N, 083°02′31″ W on the U.S. shoreline at the easternmost tip of Hart Plaza, extending southward 100 yards into the Detroit River to point 42°19′34″ N, 083°01′31″ W, then westward parallel to the U.S. shoreline to point 42°19′24″ N, 083°03′05″ W, then northward to the U.S. shoreline at the westernmost tip of the Riverfront Promenade near the Joe Louis Arena at point 42°19′26″ N, 083°03′06.5″ W, then back eastward along the U.S. shoreline to point 42°19′36.5″ N, 083°02′31″ W.

(b) Effective Date. This section is effective at 12 noon on Wednesday, July 18, 2001, and shall remain in effect until 9:30 a.m. on Sunday, July 22, 2001.

(c) Regulations. Vessels operating in the Detroit River within 100 yards of any moored tall ship sailing vessel during the effective period must proceed:

(1) In traffic patterns as directed by on-scene Coast Guard patrol craft, so as not to hazard tall ships or shoreside visitors boarding tall ships.

(2) At speeds that create minimal wake near any moored tall ship in the Detroit River, and not within 50 feet of the hull of any moored tall ship.

7. Add temporary § 165.T09-009 to read as follows:

§ 165.T09-009 Safety Zone: Detroit River, Detroit, Michigan.

(a) Location. The following is a safety zone: All U.S. waters of the Detroit River bounded by a line drawn from a point on the United States shoreline near the Nicholson Marine Terminal in River Rouge, MI, at position 42°15′21″ N, 083°07′14″ W, to a point on the international boundary line at position 42°15′14″ N, 083°07′00″ W; thence northeasterly, along the international boundary line to a point due south of Coast Guard Station Belle Isle, at position 42°20′22″ N, 082°57′35″ W; thence, due north to Coast Guard Station Belle Isle. The safety zone includes all waters of the Detroit River, downbound from the Coast Guard Station Belle Isle, around the western tip of the island, along the MacArthur Bridge, and then along the length of the entire Detroit waterfront to Nicholson Terminal, River Rouge, MI, out to the U.S. Canadian border, not to include waters of Temporary Spectator Anchorage Areas A, B or C, as defined by § 110.T09-007.

(b) Effective Period. This section will be in effect between 12:30 p.m. and 5:30 p.m. on Sunday, July 22, 2001.

(c) Regulations.

(1) The general regulations in 33 CFR 165.23 apply.

(2) All persons and vessels shall comply with the instructions of the Coast Guard Captain of the Port or the designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

8. Add temporary § 165.T09-010 to read as follows:

§ 165.T09-010 Safety Zone: Detroit River, Detroit, Michigan.

(a) Location. The following areas are safety zones:

(1) All U.S. waters of the Detroit River, 100 yards in all directions, surrounding a ceremonial barge located in the vicinity of Hart Plaza in Detroit, Michigan, at approximate position 42°19′32″ N, 083°02′41″ W.

(2) All U.S. waters of the Detroit River, 100 yards in all directions surrounding a group of six (6) to ten (10) canoes as they transit from the Detroit Yacht Club at position 42°21′00″ N, 082°58′30″ W, to the ceremonial barge located near Hart Plaza at approximate position 42°19′32″ N, 083°02′41″ W; and continue to Riverside Park at position 42°18′46″ N, 083°04′42″ W.

(b) Effective Period. The safety zone shall be in effect between 1 p.m. and 7 p.m. on Tuesday, July 24, 2001.

(c) Regulations.

(1) The general regulations in 33 CFR 165.23 apply.

(2) All persons and vessels shall comply with the instructions of the Coast Guard Captain of the Port or the designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

9. Add temporary § 165.T09-011 to read as follows:

§ 165.T09-011 Safety Zone: Saginaw Bay and River, Bay City, Michigan.

(a) Location. The following area is a safety zone: All waters of Saginaw Bay and the Saginaw River within a one hundred (100) yard radius and one mile ahead of a group of 12 to 20 tall ships and other parade vessels as they transit from position 43°43′54″ N, 083°46′54″ W, “Light 12” (LLNR 10644) to Veterans Memorial Bridge.

(b) Effective Date. This section is effective from 1 p.m. on Thursday, July 26, 2001 until 7 p.m.

(c) Regulations.

(1) The general regulations in 33 CFR 165.23 apply.

(2) All persons and vessels shall comply with the instructions of the Coast Guard Captain of the Port or the designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

10. Add temporary § 165.T09-012 to read as follows:

§ 165.T09-012 Safety Zone: Veterans Park and Wenonah Park, Saginaw River, Bay City, Michigan.

(a) Location. The following area is a safety zone: All waters of the Saginaw River between the Liberty Street Bridge at mile 4.99 and the Veterans Memorial Bridge at mile 5.60.

(b) Effective Date. The safety zone will be in effect from 7 p.m. on Thursday, July 26, 2001 to 12 p.m., noon, on Monday, July 30, 2001.

(c) Regulations. The following special regulations apply:

(1) The general regulations in 33 CFR 165.23 apply.

(2) Vessels operating in the Saginaw River within the safety zone during the effective period must proceed at no wake speeds, and not within 50 feet of the hull of any moored tall ship, in traffic patterns as directed by on-scene Coast Guard patrol craft, so as not to hazard tall ships or shoreside visitors boarding tall ships.

(3) Vessels shall remain outside the designated hazard area in the safety zone, as directed by on-scene Coast Guard personnel, during any evening fireworks event.

(4) All persons and vessels shall comply with the instructions of the Coast Guard Captain of the Port or designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

Dated: March 28, 2001.
James D. Hull,
Rear Admiral, U.S. Coast Guard, Commander, Ninth Coast Guard District, Cleveland, Ohio.

[FR Doc. 01-8444 Filed 4-6-01; 8:45 am]

BILLING CODE 4910-15-P